DEPARTMENT OF HEALTH AND HUMAN SERVICES

National Institutes of Health

Center for Scientific Review; Amended Notice of Meeting

Notice of hereby given of a change in the meeting of the Center for Scientific Review Special Emphasis Panel, June 29, 2006, 6 p.m. to June 30, 2006, 4 p.m., Embassy Suites at the Chevy Chase Pavilion, 4300 Military Road, NW., Washington, DC, 20015 which was published in the Federal Register on June 2, 2006, 71 FR 32109-32110.

The starting time of the meeting on June 29, 2006 has been changed to 7:30 p.m. until adjournment. The meeting dates and location remain the same. The meeting is closed to the public.

Dated: June 20, 2006.
Linda Payne,
Acting Director, Office of Federal Advisory Committee Policy.

[FR Doc. 06-5721 Filed 6-27-06; 8:45 am]

BILLING CODE 4140-01-M